DEPARTMENT OF DEFENSE

GENERAL SERVICES ADMINISTRATION

NATIONAL AERONAUTICS AND SPACE ADMINISTRATION

48 CFR Chapter 1

Federal Acquisition Regulation; Small Entity Compliance Guide

AGENCIES: Department of Defense (DoD), General Services Administration (GSA), and National Aeronautics and Space Administration (NASA).

ACTION: Small Entity Compliance Guide.

SUMMARY: This document is issued under the joint authority of the Secretary of Defense, the Administrator of General Services and the Administrator for the National Aeronautics and Space Administration. This Small Entity Compliance Guide has been prepared in accordance with Section 212 of the Small Business Regulatory Enforcement Fairness Act of 1996 (Public Law 104-121). It consists of a summary of rules appearing in Federal Acquisition Circular (FAC) 97-18 which amend the FAR. The rules marked with an asterisk (*) indicates that a regulatory flexibility analysis has been prepared in accordance with 5 U.S.C. 604. Interested parties may obtain further information regarding these rules by referring to FAC 97-18 which precedes this document. These documents are also available via the Internet at http://www.arnet.gov/far.

FOR FURTHER INFORMATION CONTACT: Laurie Duarte, FAR Secretariat, (202) 501-4225. For clarification of content, contact the analyst whose name appears in the table below.

List of Rules in FAC 97-18
Item | Subject | FAR case | Analyst
I | Rescission of Office of Federal Procurement Policy Letters | 2000-605 | Olson.
II | FAR Drafting Principles | 1999-610 | De Stefano.
III | Requirements Supporting Procurement of Recycled Products and Environmentally Preferable Services * | 1998-015 (98-015) | Linfield.
IV | General Records Schedules | 1999-615 | Nelson.
V | Federal Supply Schedules Small Business Opportunities * | 1998-609 (98-609) | Nelson.
VI | Trade Agreements Thresholds | 2000-004 | Linfield.
VII | Restrictions on Acquisitions from Yugoslavia and Afghanistan | 1999-008 | Linfield.
VIII | Applicability, Thresholds and Waiver of Cost Accounting Standards Coverage (Interim) | 2000-301 | Nelson.

Item I—Rescission of Office of Federal Procurement Policy Letters (FAR Case 2000-605)

This final rule reflects editorial amendments removing unnecessary cross-references to policy letters that were rescinded by the Office of Federal Procurement Policy (OFPP) (65 FR 16968, March 30, 2000).

Item II—FAR Drafting Principles (FAR Case 1999-610)

This final rule adds Federal Acquisition Regulation drafting principles to enhance a common understanding of the regulation among all members of the acquisition team and other users. This rule affects all contracting officers who use the FAR. The final rule adds drafting conventions in FAR 1.108 and amends 1.105-2, 52.101, 52.104, 52.105, and 52.200 to reflect current FAR drafting conventions.

Item III—Requirements Supporting Procurement of Recycled Products and Environmentally Preferable Services (FAR Case 1998-015 (98-015))

This final rule implements Executive Order 13101, Greening the Government through Waste Prevention, Recycling, and Federal Acquisition, dated September 14, 1998. This rule is significant for all contracting officers who buy supplies, including supplies that are furnished under a service contract. The rule rewrites text currently in the FAR based on earlier Executive orders, but reorganizes and relocates some of the text to conform to plain language guidelines for Government writing. The rewrite and reorganization should make the text easier to use and understand. The revisions also emphasize Executive branch policies for the acquisition of products containing recovered material and other environmentally preferable products and services. The rule—

• Revises FAR Subpart 7.1 to ensure that requirements for printing and writing paper meet minimum content requirements specified in the E.O.;

• Revises Subpart 11.3 to add definitions and special requirements to implement E.O. requirements and Environmental Protection Agency (EPA) regulations governing acquisitions of printing and writing paper, and to clarify that contracting officers may include in solicitations additional information requirements when needed to determine if the offeror's product meets requirements for recycled content or related standards;

• Clarifies in Part 13 how the procurement requirements of the Resource Conservation and Recovery Act, 42 U.S.C. 6962, apply to micro-purchases and acquisitions that do not exceed $100,000; and

• Reorganizes and revises Subparts 23.4 and 23.7 and associated clauses.

Item IV—General Records Schedules (FAR Case 1999-615)

This final rule implements National Archives and Records Administration General Records Schedule 3, Procurement, Supply, and Grants Records (NARA Schedule 3), dated December 15, 1998. This rule affects all contracting officers. The rule—

• Rewrites and reorganizes the text already in the FAR to make it easier to understand.

• Simplifies the retention table by grouping several categories of records that were previously treated as separate records under more generic record categories (e.g., the contract file or the contract administration records).

• Deletes separate retention policy on signed original justifications and approvals, determinations and findings, and rejected engineering change proposals. Those records are retained with the contract files shown in blocks 2 through 7 of the new retention table.

• Deletes the separate retention period for contract status, expediting, and production surveillance records. Those records are retained with the contract administration records shown in block 7 of the new retention table.

Item V—Federal Supply Schedules Small Business Opportunities (FAR Case 1998-609) (98-609))

This final rule amends the Federal Acquisition Regulation to ensure that small businesses holding contracts under the Federal Supply Schedules are afforded the maximum practicable opportunity to compete for and receive FSS purchases. This rule affects all ordering offices which place orders under Federal Supply Schedule contracts. The rule—

• Encourages ordering offices to consider the availability of small business concerns under the schedule and encourages ordering offices to consider small businesses when conducting evaluations before placing an order.

• Amends FAR Subpart 38.1 to reaffirm that the General Services Administration and agencies delegated the authority to establish a Federal Supply Schedule must comply with all statutory and regulatory requirements before issuance of a solicitation.

• Revises the FSS guidance in accordance with the plain language guidelines in a White House memorandum, Plain Language in Government Writing, dated June 1, 1998.

Item VI—Trade Agreements Thresholds (FAR Case 2000-004)

This final rule amends FAR Subparts 25.2, 25.4, 25.6, and 25.11, and the clauses at 52.225-11 and 52.225-12 to implement new dollar thresholds for application of the Trade Agreements Act (TAA) and North American Free Trade Agreement (NAFTA), as published by the U.S. Trade Representative in the Federal Register at 65 FR 17332, March 31, 2000. Contracting Officers must review the new thresholds when acquiring supplies, services, or construction, in order to select the appropriate contract clauses to implement the Buy American Act, Balance of Payments Program, trade agreements, and sanctions of European Union country end products and services.

Item VII—Restrictions on Acquisitions from Yugoslavia and Afghanistan (FAR Case 1999-008)

This final rule amends FAR Subpart 25.7, section 25.1103, and the associated clauses at 52.212-5, 52.213-4, and 52.225-13, to implement Executive Orders 13121 and 13129. These Executive orders, as modified by Office of Foreign Assets Control (OFAC) General Licenses Numbers 2 and 4, prohibit the importation into the United States of any goods or services from Serbia (excluding the territory of Kosovo) or the territory of Afghanistan controlled by the Taliban. As a matter of policy, the Government does not generally acquire, even for overseas use, supplies or services that cannot be imported lawfully into the United States.

This rule primarily affects contracting officers making purchases overseas, for overseas use, because the Treasury Department already prohibits import of these restricted goods and services into the United States. The rule is particularly beneficial to contracting officers facing unusual circumstances overseas (such as location within a restricted territory), explicitly providing an exception for such circumstances.

Item VIII—Applicability, Thresholds and Waiver of Cost Accounting Standards Coverage (FAR Case 2000-301)

This interim rule amends FAR Part 30, Cost Accounting Standards Administration, and the provision at FAR 52.230-1, Cost Accounting Standards Notices and Certification, to implement Section 802 of the National Defense Authorization Act for Fiscal Year 2000 (Pub. L. 106-65) and the Cost Accounting Standards (CAS) Board's interim rule, Applicability, Thresholds and Waiver of Cost Accounting Standards Coverage. The FAR rule revises policies affecting which contractors and subcontractors must comply with Cost Accounting Standards. The rule—

• Amends the provision at FAR 52.230-1, Cost Accounting Standards Notices and Certification, to remove the requirement that a contractor or subcontractor must have received at least one CAS-covered contract exceeding $1 million (“trigger contract”) to be subject to full CAS coverage, since the CAS Board removed this “trigger contract” amount from its corresponding solicitation provision, Cost Accounting Standards Notices and Certification, at 48 CFR 9903.201-3. The CAS Board established a new “trigger contract” dollar amount of $7.5 million in the CAS applicability section of its regulations (48 CFR 9903.201-1) rather than in its solicitation provision. Since FAR 30.201-1 already references this section, no FAR changes were required to address the new “trigger contract” dollar amount;

• Increases the dollar threshold for full CAS coverage from $25 million to $50 million; and

• Adds procedures and conditions for agency waiver of the applicability of CAS.

Dated: May 26, 2000.
Edward C. Loeb,
Director, Federal Acquisition Policy Division.

[FR Doc. 00-13826 Filed 6-1-00; 4:02 pm]

BILLING CODE 6820-EP-P